DEPARTMENT OF DEFENSE

Office of the Secretary

Privacy Act of 1974; System of Records

AGENCY: Office of the Secretary, DoD.

ACTION: Notice to Add Systems of Records.

SUMMARY: The Office of the Secretary of Defense proposes to add a system of records notice to its inventory of record systems subject to the Privacy Act of 1974 (5 U.S.C. 552a), as amended.

DATES: The changes will be effective on May 9, 2003 unless comments are received that would result in a contrary determination.

ADDRESSES: Send comments to OSD Privacy Act Coordinator, Records Management Section, Washington Headquarters Services, 1155 Defense Pentagon, Washington, DC 20301-1155.

FOR FURTHER INFORMATION CONTACT: Mr. Dan Cragg at (703) 601-4722.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on April 1, 2003, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: April 2, 2003.
Patricia L. Toppings,
Alternate OSD Federal Register Liaison Officer, Department of Defense.

DWHS 48

System name:

Biographies of OSD Officials.

System location:

Office of the Secretary of Defense, Chief Information Office, ATTN: Biographies of OSD Officials, 1950 Defense Pentagon, Room BG849, Washington, DC 203301-1950.

Categories of Individuals Covered by the System:

Military and civilian personnel currently occupying professional positions within the offices of the Office of the Secretary of Defense (OSD). A professional position is one occupied by a civilian in the grade of GS 13 and above or a military officer in the grade of major/lieutenant commander and above; employees in developmental programs such as Presidential Management Interns and Defense Fellows; and employees from other organizations serving as detailees and serving under intergovernmental personnel act agreements who are integrated within the OSD workforce.

Categories of Records in the System:

Basic biographical information on individual OSD staff to include full name of the individual; rank/grade; title; organization/office; current assignments within OSD (starting with present and working backwards to cover all periods of assignment within OSD); past experiences (a brief history of other related past experiences); and education (optional). A photograph of the individual is optional.

Authority for Maintenance of the System:

10 U.S.C. 131, Office of the Secretary of Defense.

Purpose(s):

To provide the Secretary and Deputy Secretary of Defense, as well as the OSD Principal Staff Assistants (PSA), with immediate access to biographical information on the OSD staff personnel. PSAs will only have access to those biographies for personnel who are employed, assigned, or detailed to their respective offices.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of OSD's compilation of systems of records notices applies to this system.

Policies and practices for storing, retrieving, accessing, retaining, and disposing of records in the system:

Storage:

Records are stored on electronic media.

Retrievability:

Retrieved alphabetically by the individual's full name.

Safeguards:

Records are maintained in a secure, limited access or monitored area. Physical entry by unauthorized persons is restricted by the use of locks, guards, or administrative procedures. Access to personal information is limited to those who require the records to perform their official duties. All personnel whose official duties require access to the information are trained in the proper safeguarding and use of the information.

Retention and disposal:

Records are deleted when the individual concerned departs the OSD staff.

System manager(s) and address:

Chief, Personnel Systems and Evaluation Division, Washington Headquarters Services, Personnel and Security Directorate, ATTN: Biographies of OSD Officials, 5001 Eisenhower Avenue, Room 2N36, Alexandria, VA 22333-0001.

Notification procedure:

Individuals seeking to determine whether this system of records contains information about themselves should address written inquiries to the Chief, Personnel Systems and Evaluation Division, Washington Headquarters Services, Personnel and Security Directorate, ATTN: Biographies of OSD Officials, 5001 Eisenhower Avenue, Room 2N36, Alexandria, VA 22333-0001.

Requests for information should contain individual's full name.

Records access procedures:

Individuals seeking to access information about them selves contained in this system of records should address written inquiries to the Chief, Personnel Systems and Evaluation Division, Washington Headquarters Services, Personnel and Security Directorate, ATTN: Biographies of OSD Officials, 5001 Eisenhower Avenue, Room 2N36, Alexandria, VA 22333-0001.

Requests for information should contain individual's full name.

Contesting record procedures:

The OSD rules for accessing records, for contesting contents and appealing initial agency determinations are published in OSD Administrative Instruction 81; 32 CFR part 311; or may be obtained from the system manager.

Record source categories:

The source of record is from the individuals concerned.

Exemptions claimed for the system:

None.

[FR Doc. 03-8623 Filed 4-8-03; 8:45 am]

BILLING CODE 5001-08-P